ENVIRONMENTAL PROTECTION AGENCY

[FRL-6865-5]

Agency Information Collection Activities; EPA ICR No. 1710.03; Submission to OMB; Additional Opportunity to Comment

AGENCY: Environmental Protection Agency (EPA).

ACTION: Notice.

SUMMARY: In compliance with the Paperwork Reduction Act (PRA) (44 U.S.C. 3501 et seq.), this notice announces that the Information Collection Request (ICR) entitled: Residential Lead-Based Paint Hazard Disclosure Requirements (EPA ICR No. 1710.03, OMB No. 2070-0151) has been forwarded to the Office of Management and Budget (OMB) for review and approval pursuant to the OMB procedures in 5 CFR 1320.12. The ICR, which is abstracted below, describes the nature of the information collection and its estimated cost and burden. The Federal Register notice required under 5 CFR 1320.8(d), soliciting comments on this ICR was issued on April 22, 1999 (64 FR 19772). EPA did not receive any comments.

DATES: Additional comments may be submitted on or before October 10, 2000.

FOR FURTHER INFORMATION CONTACT: Sandy Farmer at EPA by phone on (202) 260-2740, by e-mail: “farmer.sandy@epamail.epa.gov,” or by mail at the address indicated below. You may also access the ICR at http://www.epa.gov/icr/icr.htm. Please refer to EPA ICR No. 1710.03 or OMB Control No. 2070-0151.

ADDRESSES: Send comments, referencing the proper ICR number, to the following addresses: Ms. Sandy Farmer, U.S. Environmental Protection Agency, Collection Strategies Division (2822), 1200 Pennsylvania Ave, NW., Washington, DC 20460; and to: Office of Information and Regulatory Affairs, Office of Management and Budget, Attention: Desk Officer for EPA, 725 17th Street, NW., Washington, DC 20503.

SUPPLEMENTARY INFORMATION: Title: Residential Lead-Based Paint Hazard Disclosure Requirements (EPA ICR No. 1710.03; OMB Control No. 2070-00151).

Review Requested: This is a request under 5 CFR 1320.12 to renew an existing ICR currently scheduled to expire on August 31, 2000. Under 5 CFR 1320.10(e)(2), the Agency may continue to conduct or sponsor the collection of information while the submission is pending at OMB.

Abstract: Section 1018 of the Residential Lead-Based Paint Hazard Reduction Act of 1992 (42 U.S.C. 4852d) requires that sellers and lessors of most residential housing built before 1978 disclose known information on the presence of lead-based paint and lead-based paint hazards, and provide an EPA-approved pamphlet to purchasers and renters before selling or leasing the housing. Sellers of pre-1978 housing are also required to provide prospective purchasers with 10 days to conduct an inspection or risk assessment for lead-based paint hazards before obligating purchasers under contracts to purchase the property. The rule does not apply to rental housing that has been found to be free of lead-based paint, zero-bedroom dwellings, housing for the elderly, housing for the handicapped, or short-term leases. The affected parties and the information collection-related requirements related to each are described below:

1. Sellers of pre-1978 residential housing. Sellers of pre-1978 housing must attach certain notification and disclosure language to their sales/leasing contracts. The attachment lists the information disclosed and acknowledges compliance by the seller, purchaser and any agents involved in the transaction.

2. Lessors of pre-1978 residential housing. Lessors of pre-1978 housing must attach notification and disclosure language to their leasing contracts. The attachment, which lists the information disclosed and acknowledges compliance with all elements of the rule, must be signed by the lessor, lessee and any agents acting on their behalf. Agents and lessees must retain the information for 3 years from the completion of the transaction.

3. Agents acting on behalf of sellers or lessors. Section 1018 of the Residential Lead-Based Paint Hazard Reduction Act of 1992 specifically directs EPA and HUD to require agents acting on behalf of sellers or lessors to ensure compliance with the disclosure regulations.

An Agency may not conduct or sponsor, and a person is not required to respond to a collection of information that is subject to approval under the Paperwork Reduction Act, unless it displays a currently valid OMB control number. The OMB control numbers for EPA's information collections appear as part of the collection instruments (i.e., form or instructions), in the Federal Register notices for related rulemaking and ICR notices, and, if the collection is contained in a regulation, in a table of OMB approval numbers in 40 CFR part 9.

Burden Statement: There are an estimated 12,359,721 real estate transactions that will require one or more submissions of information annually. The annual public reporting burden for this collection of information is estimated to average 34.7 minutes per transaction for an estimated 16,014,310 respondents (0.77 transactions for each respondent). Under the PRA, “burden” includes the time needed to review instructions; develop, acquire, install and utilize technology and systems for the purposes of collecting, validating and verifying information, processing and maintaining information, and disclosing and providing information; adjust the existing ways to comply with any previously applicable instructions and requirements; train personnel to be able to respond to a collection of information; search data sources; complete and review the collection of information; and transmit or otherwise disclose the information.

Respondents/affected entities: Entities potentially affected by this action are sellers, purchasers, lessors, and lessees of non-exempt residential dwellings built before 1978, or a real estate agents representing such parties.

Estimated Number of Potential Respondents: 16,014,310.

Frequency of response: On occasion.

Estimated Number of Responses per Respondent: One, per occasion.

Estimated Total Annual Burden: 7,145,412.

Estimated Total Annual Non-labor Costs: $0.

Changes in the ICR Since the Last Approval: There is a net increase of 1,421 hours (from 7,143,991 hours to 7,145,412 hours) in the total estimated respondent burden compared with that identified in the previous ICR. This increase reflects an adjustment in the calculations for the ICR and is described in detail in the ICR document.

According to the procedures prescribed in 5 CFR 1320.12, EPA has submitted this ICR to OMB for review and approval. Any comments related to the renewal of this ICR should be submitted within 30 days of this notice, as described above.

Dated: August 31, 2000.
Oscar Morales,
Director, Collection Strategies Division.

[FR Doc. 00-22972 Filed 9-6-00; 8:45 am]

BILLING CODE 6560-50-P